NATIONAL AERONAUTICS AND SPACE ADMINISTRATION

[Notice: 13-136]

NASA Advisory Council; Human Exploration and Operations Committee; Meeting

AGENCY: National Aeronautics and Space Administration.

ACTION: Notice of meeting.

SUMMARY: In accordance with the Federal Advisory Committee Act, Public Law 92-462, as amended, the National Aeronautics and Space Administration (NASA) announces a meeting of the Human Exploration and Operations Committee (HEOC) of the NASA Advisory Council (NAC). This Committee reports to the NAC.

DATES: Monday, December 9, 2013, 10:30 a.m. to 2:35 p.m.; and Tuesday, December 10, 2013, 9:00 a.m. to 2:00 p.m., Local Time.

ADDRESSES: NASA Kennedy Space Center, Headquarters Building, Room 2229, Kennedy Space Center, FL 32899.

FOR FURTHER INFORMATION CONTACT: Dr. Bette Siegel, Human Exploration and Operations Mission Directorate, NASA Headquarters, Washington, DC 20546, (202) 358-2245, or bette.siegel@nasa.gov.

SUPPLEMENTARY INFORMATION: This meeting is also available telephonically and by WebEx. Any interested person may call the USA toll free conference call number (888) 989-8180 or toll number (415) 228-5016, pass code 1687504, to participate in this meeting by telephone. The WebEx link is https://nasa.webex.com/, the meeting number is 395 571 646, and the password is Public120910!

The agenda for the meeting includes the following topics:

—Status of Human Exploration and Operations

—Status of Commercial Spaceflight

—Status of Explorations Systems Development

—Status of International Space Station

—Update on Capability Driven Framework and Status of Advanced Exploration Systems

The meeting will be open to the public up to the seating capacity of the room. Seating will be on a first-come basis. Attendees will be required to sign a visitor's register and to comply with NASA security requirements, including the presentation of a valid picture ID, before receiving an access badge. All U.S. citizens desiring to attend this meeting at the NASA Kennedy Space Center must provide their full name, company affiliation (if applicable), driver's license number and state, citizenship, place of birth, and date of birth to the Kennedy Space Center Protective Services Office no later than close of business on December 5, 2013. All non-U.S. citizens must submit their name; current address; driver's license number and state (if applicable); citizenship; company affiliation (if applicable) to include address, telephone number, and title; place of birth; date of birth; U.S. visa information to include type, number, and expiration date; U.S. Social Security Number (if applicable); Permanent Resident (green card) number and expiration date (if applicable); place and date of entry into the U.S.; and passport information to include country of issue, number, and expiration date, to the Kennedy Space Center Protective Services Office no later than close of business on December 5, 2013. If the above information is not received by the noted dates, attendees should expect a minimum delay of two (2) hours. All visitors to this meeting will be required to process in through the KSC Badging Office, Building M6-0224, located just outside of KSC Gate 2, on SR 405, Kennedy Space Center, Florida. Please provide the appropriate data required above by email to Tina Hosch at TINA.HOSCH@NASA.GOV or fax 321-867-7206, noting at the top of the page “Public Admission to the Human Exploration and Operations Committee Meeting of the NASA Advisory Council at KSC.” For security questions, please email Tina Hosch at TINA.HOSCH@NASA.GOV. All visitors will be escorted while attending the meeting at Kennedy Space Center. All visitors will board a bus at the Kennedy Space Center Badging Office for transportation to and from the meeting.

It is imperative that the meeting be held on this date to accommodate the scheduling priorities of the key participants.

Patricia D. Rausch,
Advisory Committee Management Officer, National Aeronautics and Space Administration.

[FR Doc. 2013-28488 Filed 11-26-13; 8:45 am]

BILLING CODE 7510-13-P